DEPARTMENT OF THE INTERIOR

Bureau of Indian Affairs

[189A2100DD/AAKC001030/A0A501010.999900 253G]

Rate Adjustments for Indian Irrigation Projects

AGENCY: Bureau of Indian Affairs, Interior.

ACTION: Notice.

SUMMARY: The Bureau of Indian Affairs (BIA) owns or has an interest in irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: The irrigation assessment rates are current as of January 1, 2018.

FOR FURTHER INFORMATION CONTACT: For details about a particular BIA irrigation project or facility, please use the tables in the SUPPLEMENTARY INFORMATION section to identify contacts at the regional or local office at which the project or facility is located.

SUPPLEMENTARY INFORMATION: A Notice of Proposed Rate Adjustment was published in the Federal Register on January 18, 2018 (83 FR 2662) to propose adjustments to the irrigation assessment rates at several BIA irrigation projects. The public and interested parties were provided an opportunity to submit written comments during the 60-day period that ended March 19, 2018.

Did BIA defer or change any proposed rate increases?

Yes. The 2019 Operation and Maintenance (O&M) rate for the Wind River Irrigation Project, Units 2, 3, and 4, was proposed in the Federal Register at $25.00 per acre. After further review, BIA decided to change the rate to $24.50. Instead of raising the rate by $1.00, the rate will only increase by $.50. Because the rate increased by $1.50 over the two previous years, BIA decided the full $1.00 increase for the 2019 O&M rate is not appropriate. Hence, this notice of rate adjustments reflects a 2019 O&M rate of $24.50 per acre for Units 2, 3, and 4.

Did BIA receive any comments on the proposed irrigation assessment rate adjustments?

Yes. BIA received twelve (12) written comments related to the proposed irrigation rate adjustment for the Flathead Indian Irrigation Project and Wind River Irrigation Project.

What issues were of concern to the commenters?

Commenters raised concerns on the proposed rates about the following issues:

The Following Comments are Specific to the Flathead Indian Irrigation Project (FIIP)

Written comments relating to the proposed rate adjustment were received by letter. BIA's summary of the issues and BIA's responses are provided below.

Comment: Several commenters state a general opposition to the 2019 rate increase, along with a number of specific concerns. These include: A concern that BIA is pursuing a rate increase prior to the FIIP manager's annual meeting with the individual irrigation districts, and concerns with how FIIP management chooses to expend funds obtained through irrigation rate assessments.

Response: As noted when rates were proposed in the Federal Register on January 18, 2018 (83 FR 2662), BIA is required to establish irrigation assessment rates that recover the costs to administer, operate, maintain, and rehabilitate our projects. As owner of FIIP, it is BIA's responsibility to ensure adequate resources are made available to meet the requirements noted above. BIA's authority to assess rates dates back to the Act of May 29, 1908, codified at 25 U.S.C. 381 et seq., and is addressed in BIA's regulations at 25 CFR part 171. Additionally, the repayment contracts between the irrigation districts and the Department of the Interior explicitly state that operation and maintenance expenses “shall be paid . . . as provided . . . by rules made or to be made . . . by the Secretary of the Interior.” The procedures followed by BIA in adjusting its irrigation assessment rates are consistent with applicable law and past practice.

Regarding the timing of this Federal Register notice, BIA makes every effort to publish notice of irrigation O&M rate adjustments prior to the issuance of irrigation bills for the upcoming season, and that process requires BIA to solicit comments on proposed rate adjustments on a timeline that will allow it to publish by then. The BIA-wide effort seeking comments on proposed irrigation rate adjustments is separate from the Project-specific meetings that are conducted by individual Project Managers consistent with each Project's Operations and Management Guidelines.

Regarding concerns with how FIIP management expends funds, each Project Manager has discretion to assess priorities and address those priorities, subject to available funding. As discussed in more detail below, BIA chose not to implement the full, recommended $7.50 increase in 2017, choosing instead to impose a $3.00 increase. As a result, the FIIP Project Manager had less funding available to address key priorities. It is anticipated that the proposed $4.50 increase will provide the FIIP Project Manager with opportunities to address additional priorities.

Comment: One commenter states an opposition to the $4.50 per acre 2019 O&M rate increase, alleging that BIA has not met BIA operating standards by not meeting monthly with the three irrigation districts and not meeting with the three districts to discuss O&M costs, water storage, and other issues.

Response: The status of the FIIP budget and the need to increase rates were communicated to the Flathead Joint Board of Control (FJBC) and irrigation districts as early as 2014 and have been discussed with the irrigation districts, FJBC, and CSKT numerous times since then. BIA publicly noticed its intent to increase assessment rates in both 2015 and 2016 (see Proposed Rate Adjustments published in the Federal Register on June 11, 2015 (80 FR 33279, 33283) and August 5, 2016 (81 FR 51927, 51931)). In January 2017, the FIIP Project Manager met with the FJBC to discuss the proposed 2018 increase, which at the time was proposed to be $7.50. As discussed below, for a number of reasons, BIA chose to implement only a $3.00 increase in 2018, but made it clear that the full $7.50 was warranted and that the remaining $4.50 increase would be included in the 2019 rates. This information was provided at an April 11, 2017 water user meeting and reiterated in meetings with the FJBC on May 9, 2017, June 13, 2017, and July 11, 2017.

The BIA's Operations and Management Guidelines require only an annual meeting with the FJBC. This meeting took place on April 11, 2017. These Guidelines also allow FIIP management to meet with individual irrigation districts on an ad hoc basis; to that end, the FIIP Project Manager met with the chairmen of the three individual irrigation districts on June 15, 2017 to discuss the $4.50 rate increase. The FIIP Project Manager also met with the FJBC on September 12, 2017 and October 10, 2017, but the FJBC did not discuss the rate increase at those meetings.

Comment: One commenter protests the $4.50 per acre increase, stating that farmers will be faced with a 29% increase in irrigation costs in two years. The commenter further contends that BIA has not provided a justification or proposal for utilizing the increase.

Response: The costs associated with operating and maintaining the FIIP consistently exceed the amount paid to the FIIP through O&M assessments. Even during the timeframe when the Cooperative Management Entity operated the FIIP, the O&M assessment rate was increased twice, in 2010 and 2011. Since re-assumption, BIA has made clear the need to increase FIIP assessments rates to address O&M needs, and has publicly noticed the need to raise rates in both 2015 and 2016. The only reason rate increases were not implemented then was as a result of the timeframe necessary to communicate an increase to the counties that collect the O&M assessments. Rate increases have been needed for some time, and FIIP's ability to address its operation and maintenance needs have been severely compromised by not increasing rates since 2011.

In 2017, BIA proposed to increase the 2018 rate by $7.50 and explained in the Federal Register notice on April 21, 2017 (82 FR 18770) that the entire $7.50 increase was justified due to the increased costs associated with administering, operating, maintaining, and rehabilitating the FIIP. Because of the timing of the 2017 Federal Register proposed rate notice, BIA agreed to impose only a $3.00 increase in 2018 and memorialized that increase in the final rate notice published on August 11, 2017 (82 FR 37604, 37605). At the time, however, BIA made clear that the additional $4.50 would be included in its 2019 rates.

The Following Comments Are Specific to the Wind River Irrigation Project (WRIP)

Written comments relating to the proposed rate adjustment were received by letter. The BIA's summary of the issues and BIA's responses are provided below.

Comment: One commenter objects to increased O&M fees that may idle tribal and allotted lands and decrease the financial viability of agricultural operations.

Response: BIA's projects are important economic contributors to the local communities they serve, and they contribute millions of dollars in crop value annually. Unfortunately, the costs associated with operating and maintaining an irrigation project may increase independently of prices and costs that are realized by the irrigators. Historically, BIA tempered irrigation rates to demonstrate sensitivity to the economic impact on water users, but that past practice resulted in a rate deficiency at some irrigation projects. Therefore, funding to operate and maintain these projects needs to come from the water users served by those projects.

BIA's irrigation program has been the subject of serval Office of Inspector General (OIG) and U.S. Government Accountability Office (GAO) audits. In the most recent OIG audit, No. 96-I-641, March 1996, the OIG concluded:

Operation and maintenance revenues were insufficient to maintain the projects, and some projects had deteriorated to the extent that their continued capability to deliver water was in doubt. This occurred because operation and maintenance rates were not based on the full cost of delivering irrigation water, including the costs of systematically rehabilitating and replacing project facilities and equipment, and because project personnel did not seek regular rate increases to cover the full cost of project operation.

A previous OIG audit performed on one of BIA's largest irrigation projects, the Wapato Irrigation Project, No. 95-I-1402, September 1995, reached the same conclusion.

To address the issues noted in these audits, BIA must systematically review and evaluate irrigation assessment rates and adjust them, when necessary, to reflect the full cost to operate and perform all appropriate maintenance on the irrigation project or facility infrastructure to ensure safe and reliable operation. If this review and adjustment is not accomplished, a rate deficiency can accumulate over time. Rate deficiencies force BIA to raise irrigation assessment rates in larger increments over shorter periods than would have been otherwise necessary.

BIA has projected this proposed rate increase for several years, and anticipated increasing the assessment rates in both 2018 and 2019. The Wind River Irrigation Project (WRIP) Operations and Maintenance (O&M) budget was prepared in accordance with BIA financial guidelines. The intent of the increases is for maintenance of a reserve fund for contingencies or emergencies.

Based on increased costs associated with administering, operating, maintaining, and rehabilitating WRIP, the need for the proposed rate increase is clear and justified for both 2018 and 2019. For those farm units where BIA determines that our irrigation facilities are not capable of delivering adequate irrigation water, an Annual Assessment Waiver can be granted to waive the O&M assessment.

Comment: Commenters state that no rate increases should occur on WRIP. Specifically, some commenters oppose Unit 6's rate increase because the Ray Canal Water Users Association (RCWUA) efficiently operates the project through a cooperative agreement.

Response: As explained in the previous response, BIA can no longer temper irrigation rates. BIA is required to establish irrigation assessment rates that recover the costs to administer, operate, maintain, and rehabilitate our projects. As owner of WRIP, it is BIA's responsibility to ensure adequate resources are made available to meet the requirements noted above. BIA's authority to assess rates dates back to the Act of May 29, 1908, codified at 25 U.S.C. 381 et seq., and is addressed in BIA's regulations at 25 CFR part 171. In accordance with 25 CFR 171.500, upcoming annual costs are to be estimated through a budgeting process that factors in all categories, including maintenance of a reserve fund.

Of the six WRIP rates, BIA does not set the rates for LeClair District or Riverton Valley Irrigation District. Of the remaining four WRIP rates, BIA is raising each Unit's 2017 rate by $1.00 over the course of two years. Rates for three Units (Unit 6, Crow Heart Unit, and A Canal Unit) are increasing by $1.00 in 2018; these three Units' rates will not increase in 2019. The remaining rate for Units 2, 3, and 4 will be raised by $1 over the course of two years: $0.50 increase in 2018 and $.50 increase in 2019. The rate increases will replenish WRIP's reserve fund; as explained below, the reserve fund is for contingencies or emergencies.

Regarding Unit 6 specifically, RCWUA bases its annual budget on the 85% collection rate minus the BIA direct service cost. The BIA direct service cost is $3.50 per acre and based on a cost per acre of direct services BIA provides to Unit 6 (Ray Canal water users), which includes: (1) Administrative functions for two full-time Accounting Technicians; (2) general office per acre cost; (3) 7.5% of the Project Manager's per acre cost; and (4) 8% of the Equipment Operator's per acre cost. With respect to the last item, BIA's Equipment Operators operate and maintain Washakie Dam, which provides water to the Ray Canal Diversion structure. The Equipment Operators also clean trash racks and maintain the diversion structure for Ray Canal. Operation and maintenance of Washakie Dam and the Ray Canal Diversion structure is captured in BIA's direct service cost of $3.50 per acre.

Although RCWUA may be functioning within its budget to provide O&M within Unit 6, BIA must assess rates based on the entire WRIP. BIA must increase the rate to (1) reflect the full cost of operating and performing all maintenance on the irrigation project or facility infrastructure and (2) maintain a reserve fund to cover emergencies, including critical repairs to avoid potential system failures that occurred in 2017. The reserve fund is used as needed for any Unit within WRIP, including Unit 6. Although BIA receives some non-water user funding for irrigation rehabilitation, each irrigation project needs to maintain a reserve fund for emergencies and equipment purchases. The BIA National Irrigation Handbook's Emergency Reserve Fund Guidelines recommends a reserve of 40% of the annual O&M costs, which is calculated by averaging five years of costs. For WRIP, the recommended reserve amount is $310,000. In addition, irrigation projects should maintain a sinking fund to meet future expenditures for replacement of equipment and vehicles. Currently, the reserve fund and sinking fund combined total is $280,000. The WRIP rate increases will bring in just over $28,000 in 2018 and over $36,000 in the following years for replenishment of WRIP's reserve and sinking funds. Thus, BIA views the modest rate increase here to be necessary and reasonable.

Comment: Commenters expressed a position that the repair costs (both past and future) of the washout of the 37C chute project should not be passed on to the RCWUA water users.

Response: Because of flooding that resulted from the melting of the extensive snowpack that occurred in 2017, a major structure was damaged, a main canal was put at risk of failure, and 37C chute was damaged. RCWUA did not incur any of the costs associated with the 37C chute project. BIA has and will continue to use both O&M funds and the WRIP reserve fund for repairs from the flooding. BIA, Eastern Shoshone Tribe, and Northern Arapaho Tribe requested and secured non-water user funding sources (federal and Tribal funds) to supplement the costs associated with the repair of 37C chute project. Reserve funding may also be used for the structure's repair. Accordingly, BIA must increase O&M rates to replenish the reserve fund to prepare for inevitable failures or damage. Without the necessary O&M rate increases, lack of adequate funds could result in the inability of the project to maintain irrigation system components and deliver water.

Comment: Two commenters state an opposition to the proposed rate adjustments because the Project has only had one BIA part-time secretary. Given that a BIA project position has been vacant for years, salaries from vacant positions should offset any proposed increases.

Response: Presently, WRIP is operating with one full-time Accounting Technician and an Acting Irrigation Project Manager. BIA intends to fill two vacant positions: Accounting Technician and Irrigation Project Manager. We believe that these personnel expenditures are reasonable and appropriate, and well within BIA's authority to manage its personnel to assure that its water deliver obligations are satisfied. Any remaining funds will be utilized toward flood damage and deferred maintenance. Thus, water users will see a significant portion of the increase returned to them in form of repairs and increased maintenance.

Comment: One commenter objects to the proposed rate adjustments because BIA fails to renew leases and act on leasing in a timely manner, which leaves a large amount of agricultural land vacant on WRIP.

Response: Leasing functions fall under the Agency Realty Office, while leases on Tribal land require Tribal approval. Upon receipt of leasing information from the Agency Realty Office, BIA's WRIP staff efficiently perform data entry for O&M billing compilation.

Does this notice affect me?

This notice affects you if you own or lease land within the assessable acreage of one of our irrigation projects or if you have a carriage agreement with one of our irrigation projects.

Where can I get information on the regulatory and legal citations in this notice?

You can contact the appropriate office(s) stated in the tables for the irrigation project that serves you, or you can use the internet site for the Government Printing Office at www.gpo.gov.

What authorizes you to issue this notice?

Our authority to issue this notice is vested in the Secretary of the Interior (Secretary) by 5 U.S.C. 301 and the Act of August 14, 1914 (38 Stat. 583; 25 U.S.C. 385). The Secretary has in turn delegated this authority to the Assistant Secretary—Indian Affairs under Part 209, Chapter 8.1A, of the Department of the Interior's Departmental Manual.

Whom can I contact for further information?

The following tables are the regional and project/agency contacts for our irrigation facilities.

Project name | Project/agency contacts
Northwest Region Contacts
Bodie Shaw, Acting Regional Director, Bureau of Indian Affairs, Northwest Regional Office, 911 NE 11th Avenue, Portland, OR 97232-4169, Telephone: (503) 231-6702.
Flathead Indian Irrigation Project | Pete Plant, Acting Superintendent, Pete Plant, Irrigation Project Manager, P.O. Box 40, Pablo, MT 59855, Telephones: (406) 675-2700 ext. 1300 Superintendent, (406) 745-2661 ext. 2 Project Manager.
Fort Hall Irrigation Project | David Bollinger, Irrigation Project Manager, Building #2 Bannock Ave., Fort Hall, ID 83203-0220, Telephone: (208) 238-6264.
Wapato Irrigation Project | David Shaw, Superintendent, Larry Nelson, Acting Project Administrator, P.O. Box 220, Wapato, WA 98951-0220, Telephones: (509) 865-2421 Superintendent, (509) 877-3155 Acting Project Administrator.
Rocky Mountain Region Contacts
Susan Messerly, Acting Regional Director, Bureau of Indian Affairs, Rocky Mountain Regional Office, 2021 4th Avenue North, Billings, MT 59101, Telephone: (406) 247-7943.
Blackfeet Irrigation Project | Thedis Crowe, Superintendent, Greg Tatsey, Irrigation Project Manager, Box 880, Browning, MT 59417, Telephones: (406) 338-7544, Superintendent, (406) 338-7519, Irrigation Project Manager.
Crow Irrigation Project | Michael Addy, Acting Superintendent, Jim Gappa, Acting Irrigation Project Manager, P.O. Box 69, Crow Agency, MT 59022, Telephones: (406) 638-2672, Superintendent, (406) 247-7998, Acting Irrigation Project Manager.
Fort Belknap Irrigation Project | Dave Hopkins, Acting Superintendent, Jim Gappa, Acting Irrigation Project Manager (BIA), (Project operation & maintenance contracted to Tribes), R.R.1, Box 980, Harlem, MT 59526, Telephones: (406) 353-2901, Superintendent, (406) 353-8454, Irrigation Project Manager (Tribal Office).
Fort Peck Irrigation Project | Howard Beemer, Superintendent, Huber Wright, Acting Irrigation Project Manager, P.O. Box 637, Poplar, MT 59255, Telephones: (406) 768-5312, Superintendent, (406) 653-1752, Irrigation Project Manager.
Wind River Irrigation Project | Norma Gourneau, Superintendent, Jim Gappa, Acting Irrigation Project Manager, P.O. Box 158, Fort Washakie, WY 82514, Telephones: (307) 332-7810, Superintendent, (406) 247-7998, Acting Irrigation Project Manager.
Southwest Region Contacts
John Halliday, Acting Regional Director, Bureau of Indian Affairs, Southwest Regional Office, 1001 Indian School Road, Albuquerque, NM 87104, Telephone: (505) 563-3100.
Pine River Irrigation Project | Priscilla Bancroft, Superintendent, Vickie Begay, Irrigation Project Manager, P.O. Box 315, Ignacio, CO 81137-0315, Telephones: (970) 563-4511, Superintendent, (970) 563-9484, Irrigation Project Manager.
Western Region Contacts
Bryan Bowker, Regional Director, Bureau of Indian Affairs, Western Regional Office, 2600 N Central Ave., 4th Floor Mailroom, Phoenix, AZ 85004, Telephone: (602) 379-6600.
Colorado River Irrigation Project | Kellie Youngbear Superintendent, Gary Colvin, Irrigation Project Manager, 12124 1st Avenue, Parker, AZ 85344, Telephone: (928) 669-7111.
Duck Valley Irrigation Project | Joseph McDade, Superintendent (Project operation & management compacted to Tribes), 2719 Argent Ave., Suite 4, Gateway Plaza, Elko, NV 89801, Telephone: (775) 738-5165, (208) 759-3100, (Tribal Office).
Yuma Project, Indian Unit | Denni Shields, Superintendent, 256 South Second Avenue, Suite D, Yuma, AZ 85364, Telephone: (928) 782-1202.
San Carlos Irrigation Project (Indian Works and Joint Works) | Ferris Begay, Project Manager, Clarence Begay, Irrigation Manager, 13805 N Arizona Boulevard, Coolidge, AZ 85128, Telephone: (520) 723-6225.
Uintah Irrigation Project | Antonio Pingree, Acting Superintendent, Ken Asay, Irrigation System Manager, P.O. Box 130, Fort Duchesne, UT 84026, Telephone: (435) 722-4300, (435) 722-4344.
Walker River Irrigation Project | Robert Eben, Superintendent, 311 E Washington Street, Carson City, NV 89701, Telephone: (775) 887-3500.

What irrigation assessments or charges are adjusted by this notice?

The rate table below contains the final rates for the 2018 and 2019 calendar years for all irrigation projects where we recover costs of administering, operating, maintaining, and rehabilitating them. An asterisk immediately following the rate category notes the irrigation projects where 2018 rates are different from the 2019 rates.

Project name | Rate category | Final 2017 rate | Final 2018 rate | Final 2019 rate
Northwest Region Rate Table
Flathead Indian Irrigation Project (See Note #1) | Basic-per acre—A * | $26.00 | $29.00 | $33.50
| Basic-per acre—B * | 13.00 | 14.50 | 16.75
| Minimum Charge per tract | 75.00 | 75.00 | 75.00
Fort Hall Irrigation Project | Basic per acre * | 54.00 | 56.00 | 58.00
| Minimum Charge per tract * | 38.50 | 39.00 | 40.00
Fort Hall Irrigation Project—Minor Units | Basic per acre * | 32.50 | 35.00 | 36.50
| Minimum Charge per tract * | 38.50 | 39.00 | 40.00
Fort Hall Irrigation Project—Michaud | Basic per acre * | 57.50 | 59.50 | 62.00
| Pressure per acre * | 88.50 | 92.50 | 98.00
| Minimum Charge per tract * | 38.50 | 39.00 | 40.00
Wapato Irrigation Project—Toppenish/Simcoe Units | Minimum Charge per bill | 25.00 | 25.00 | 25.00
| Basic per acre | 25.00 | 25.00 | 25.00
Wapato Irrigation Project—Ahtanum Units | Minimum Charge per bill | 30.00 | 30.00 | 30.00
| Basic per acre | 30.00 | 30.00 | 30.00
Wapato Irrigation Project—Satus Unit | Minimum Charge per bill | 79.00 | 79.00 | 79.00
| “A” Basic per acre | 79.00 | 79.00 | 79.00
| “B” Basic per acre | 85.00 | 85.00 | 85.00
Wapato Irrigation Project—Additional Works | Minimum Charge per bill | 78.00 | 80.00 | 80.00
| Basic per acre | 78.00 | 80.00 | 80.00
Wapato Irrigation Project—Water Rental | Minimum Charge | 86.00 | 86.00 | 86.00
| Basic per acre | 86.00 | 86.00 | 86.00
Rocky Mountain Region Rate Table
Blackfeet Irrigation Project | Basic-per acre | 20.00 | 20.00 | 20.00
Crow Irrigation Project—Willow Creek O&M (includes Agency, Lodge Grass #1, Lodge Grass #2, Reno, Upper Little Horn, and Forty Mile Units) | Basic-per acre | 28.00 | 28.00 | 28.00
Crow Irrigation Project—All Others (includes Bighorn, Soap Creek, and Pryor Units) | Basic-per acre | 28.00 | 28.00 | 28.00
Crow Irrigation Project—Two Leggins Unit | Basic-per acre | 14.00 | 14.00 | 14.00
Crow Irrigation Two Leggins Drainage District | Basic-per acre | 2.00 | 2.00 | 2.00
Fort Belknap Irrigation Project | Basic-per acre | 16.00 | 16.00 | 16.00
Fort Peck Irrigation Project | Basic-per acre * | 26.50 | 26.50 | 27.00
Wind River Irrigation Project—Units 2, 3 and 4 | Basic-per acre * | 23.50 | 24.00 | 24.50
Wind River Irrigation Project—Unit 6 | Basic-per acre | 21.00 | 22.00 | 22.00
Wind River Irrigation Project—LeClair District (see Note #2) | Basic-per acre | 47.00 | 47.00 | 47.00
Wind River Irrigation Project—Crow Heart Unit | Basic-per acre | 15.50 | 16.50 | 16.50
Wind River Irrigation Project—A Canal Unit | Basic-per acre | 15.50 | 16.50 | 16.50
Wind River Irrigation Project—Riverton Valley Irrigation District (see Note #2) | Basic-per acre | 30.65 | 30.65 | 30.65
Southwest Region Rate Table
Pine River Irrigation Project | Minimum Charge per tract | 50.00 | 50.00 | 50.00
| Basic-per acre * | 19.00 | 20.00 | 21.00

Western Region Rate Table
Colorado River Irrigation Project | Basic per acre up to 5.75 acre-feet | 54.00 | 54.00 | 54.00
| Excess Water per acre-foot over 5.75 acre-feet | 17.000 | 17.00 | 17.00
Duck Valley Irrigation Project (See Note #3) | Basic per acre | 5.30 | 5.30 | ( +)
Yuma Project, Indian Unit (See Note #4) | Basic per acre up to 5.0 acre-feet | 118.50 | 147.00 | ( +)
| Excess Water per acre-foot over 5.0 acre-feet | 27.50 | 30.00 | ( +)
| Basic per acre up to 5.0 acre-feet (Ranch 5) | 118.50 | 147.00 | ( +)
San Carlos Irrigation Project (Joint Works) (See Note #5) | Basic per acre * | 25.00 | 27.90 | 31.25
| Final 2017, 2018, 2019 Construction Water Rate Schedule:
|  | Off project construction | On project construction— gravity water | On project construction— pump water
| Administrative Fee | 300.00 | 300.00 | 300.00.
| Usage Fee | 250.00 per month | No Fee | 100.00 per acre foot.
| Excess Water Rate † | 5.00 per 1,000 gal | No Charge | No Charge.

Project name | Rate category | Final 2017 rate | Final 2018 rate | Final 2019 rate
San Carlos Irrigation Project (Indian Works) (See Note #6) | Basic per acre * | $81.00 | $87.60 | $95.40
Uintah Irrigation Project | Basic per acre * | 18.00 | 20.00 | 21.00
| Minimum Bill | 25.00 | 25.00 | 25.00
Walker River Irrigation Project | Basic per acre | 31.00 | 31.00 | 31.00
+ These rates have not yet been determined; BIA will publish a separate notice for these rates at a later date.
† The excess water rate applies to all water used in excess of 50,000 gallons in any one month.
* Notes irrigation projects where 2018 rates are different from 2019 rates.
Note #1: Federal Register Notice on January 18, 2018 (83 FR 2665), finalized the 2018 rate for the Flathead Indian Irrigation Project.
Note #2: These O&M rates may vary yearly based upon the budget submitted by the LeClair District and the Riverton Valley Irrigation District.
Note #3: The annual O&M rate is established by the Shoshone-Paiute Tribes who perform O&M under a self-governance compact.
Note #4: The O&M rate for the Yuma Project, Indian Unit has two components. The first component of the O&M rate is established by the Bureau of Reclamation (BOR), the owner and operator of the Project. BOR's rate, which is based upon the annual budget submitted by BOR, is 143.50 for 2018; and has not been established for 2019. The second component of the O&M rate is established by BIA to cover administrative costs, which includes billing and collections for the Project. The 2018 and 2019 BIA rate component is 3.50/acre.
Note #5: Federal Register Notice on August 11, 2017 (82 FR 37608), established the final 2018 rate for the San Carlos Irrigation Project. The construction water rate schedule identifies the fees assessed for use of irrigation water for non-irrigation purposes.
Note #6: The 2018 and 2019 O&M rates for the San Carlos Irrigation Project—Indian Works has three components. The first component is the O&M rate established by the San Carlos Irrigation Project—Indian Works, the owner and operator of the Project; this rate is 50.00 per acre each year. The second component is for the O&M rate established by the San Carlos Irrigation Project—Joint Works and is determined to be 27.90 per acre for 2018 and 31.25 per acre for 2019. The third component is the O&M rate established by the San Carlos Irrigation Project Joint Control Board and is 9.70 per acre for 2018 and 14.15 per acre for 2019.

Consultation and Coordination With Tribal Governments (Executive Order 13175)

The Department of the Interior strives to strengthen its government-to-government relationship with Indian Tribes through a commitment to consultation with Indian Tribes and recognition of their right to self-governance and Tribal sovereignty. We have evaluated this notice under the Department's consultation policy and under the criteria of Executive Order 13175 and have determined there to be substantial direct effects on federally recognized Tribes because the irrigation projects are located on or associated with Indian reservations. To fulfill its consultation responsibility to Tribes and Tribal organizations, BIA communicates, coordinates, and consults on a continuing basis with these entities on issues of water delivery, water availability, and costs of administration, operation, maintenance, and rehabilitation of projects that concern them. This is accomplished at the individual irrigation project by project, agency, and regional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

The rate adjustments are not a significant energy action under the definition in Executive Order 13211. A Statement of Energy Effects is not required.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on state, local, or Tribal governments in the aggregate, or on the private sector, of more than $130 million per year. They do not have a significant or unique effect on state, local, or Tribal governments or the private sector. Therefore, the Department is not required to prepare a statement containing the information required by the Unfunded Mandates Reform Act (2 U.S.C. 1531 et seq.).

Takings (Executive Order 12630)

These rate adjustments do not effect a taking of private property or otherwise have “takings” implications under Executive Order 12630. The rate adjustments do not deprive the public, state, or local governments of rights or property.

Federalism (Executive Order 13132)

Under the criteria in section 1 of Executive Order 13132, these rate adjustments do not have sufficient federalism implications to warrant the preparation of a federalism summary impact statement because they will not affect the States, the relationship between the national government and the States, or the distribution of power and responsibilities among various levels of government. A federalism summary impact statement is not required.

Civil Justice Reform (Executive Order 12988)

This notice complies with the requirements of Executive Order 12988. Specifically, in issuing this notice, the Department has taken the necessary steps to eliminate drafting errors and ambiguity, minimize potential litigation, and provide a clear legal standard for affected conduct as required by section 3 of Executive Order 12988.

Paperwork Reduction Act of 1995

These rate adjustments do not affect the collections of information which have been approved by the Office of Information and Regulatory Affairs, Office of Management and Budget (OMB), under the Paperwork Reduction Act of 1995. The OMB Control Number is 1076-0141 and expires June 30, 2019.

National Environmental Policy Act

The Department has determined that these rate adjustments do not constitute a major Federal action significantly affecting the quality of the human environment and that no detailed statement is required under the National Environmental Policy Act of 1969, 42 U.S.C. 4321-4370(d), pursuant to 43 CFR 46.210(i). In addition, the rate adjustments do not present any of the 12 extraordinary circumstances listed at 43 CFR 46.215.

Data Quality Act

In developing this notice, we did not conduct or use a study, experiment, or survey requiring peer review under the Data Quality Act (Pub. L. 106-554).

Dated: August 13, 2018.
Tara Sweeney,
Assistant Secretary—Indian Affairs.

[FR Doc. 2018-17724 Filed 8-16-18; 8:45 am]

BILLING CODE 4337-15-P